DEPARTMENT OF HOMELAND SECURITY

Federal Emergency Management Agency

[Docket ID: FEMA-2013-0032; OMB No. 1660-NW81]

Agency Information Collection Activities: Submission for OMB Review; Comment Request

AGENCY: Federal Emergency Management Agency, DHS.

ACTION: Notice.

SUMMARY: The Federal Emergency Management Agency (FEMA) submits the following information collection request abstracted below to the Office of Management and Budget for review and clearance in accordance with the requirements of the Paperwork Reduction Act of 1995. The proposed information collection is published to obtain comments from the public. The submission describes the nature of the information collection, the categories of respondents, the estimated burden (i.e., the time, effort and resources used by respondents to respond) and cost, and the actual data collection instruments FEMA will use.

DATES: Comments must be submitted on or before January 8, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Preparedness Message Framing Research.

Type of information collection: New.

Form Titles and Numbers: FEMA Form 008-0-17, Focus Group Moderator's Gude; FEMA Form 008-0-18, Recruit/Screener Phone Script; and FEMA Form 008-0-19, Post Event Participant Survey.

Abstract: FEMA's Individual and Community Preparedness Division will engage in qualitative research involving the review of disaster preparedness message frames for the purpose of determining the most effective means for presenting understandable disaster preparedness messages for members of the public and their families. Multiple frames will be used to probe: (1) Overall understanding of the terms used in preparedness messaging (Disaster; Preparedness; Emergency); (2) General concern and attitudes (area specific hazards and risks; concern or worry about specific hazards and risks; plans for taking steps); (3) Reactions to hazard specific message concepts; and (4) Effective channels for communication. This research will provide insights on how to improve existing disaster preparedness messages to encourage the public to engage in preparedness behaviors.

Affected Public: Individuals and Households.

Estimated Number of Respondents: 3,840.

Estimated Total Annual Burden Hours: 940 hours.

Estimated Cost: There are no recordkeeping, capital, start-up or maintenance costs assocated with this information collection.

Dated: November 25, 2013.
Charlene D. Myrthil,
Director, Records Management Division, Mission Support Bureau, Federal Emergency Management Agency, Department of Homeland Security.

[FR Doc. 2013-29254 Filed 12-6-13; 8:45 am]

BILLING CODE 9111-27-P